DEPARTMENT OF COMMERCE

National Oceanic and Atmospheric Administration

50 CFR Part 648

[I.D. 012400B]

Fisheries of the Northeastern United States; Atlantic Sea Scallop Fishery

AGENCY: National Marine Fisheries Service (NMFS), National Oceanic and Atmospheric Administration (NOAA), Commerce.

ACTION: Notice of intent to prepare a Supplemental Environmental Impact Statement (SEIS) and notice of scoping process; request for comments.

SUMMARY: The New England Fishery Management Council (Council) announces its intention to prepare Amendment 10 to the Atlantic Sea Scallop Fishery Management Plan (FMP) to develop an area based management system that would, among other things, close areas with high concentrations of small scallops and open them later when the scallops are bigger. The Council also announces its intent to prepare an SEIS for the Atlantic Sea Scallop FMP in accordance with the National Environmental Policy Act of 1969 to analyze the impacts of any management alternatives. The Council will hold public scoping meetings in Fairhaven, MA; Virginia Beach, VA; and Cape May, NJ; to determine the scope of issues to be addressed and for identifying the significant issues related to the management alternatives.

DATES: Written comments on the intent to prepare the SEIS must be received on or before 5:00 p.m., local time, March 1, 2000. The meetings will held between Tuesday, February 15, 2000, and Thursday, February 18, 2000. See SUPPLEMENTARY INFORMATION for specific dates and times.

ADDRESSES: Written comments should be sent to Paul J. Howard, Executive Director, New England Fishery Management Council, 50 Water Street, Mill 2, Newburyport, MA 01950. Comments may also be sent via fax to (978) 465-0492. The meetings will be held in Fairhaven, MA; Virginia Beach, VA; and Cape May, NJ. See SUPPLEMENTARY INFORMATION for specific locations. Comments will not be accepted if submitted via e-mail or Internet.

FOR FURTHER INFORMATION CONTACT: Paul J. Howard, Executive Director, New England Fishery Management Council (978) 465-0492. Requests for special accommodations should be addressed to the New England Fishery Management Council, 50 Water St., Mill 2, Newburyport, MA 01950; telephone: (978) 465-0492.

SUPPLEMENTARY INFORMATION:

Background

Amendment 4 to the Atlantic Sea Scallop FMP established a limited access program and a schedule of annual day-at-sea (DAS) allocations for full-time, part-time, and occasional vessels with limited access permits. Although Amendment 4 changed the restrictions on fishing gear and limited the number of crew aboard limited access vessels, the primary management measure to control fishing mortality was the annual DAS allocation. The initial annual allocations in 1994 were 201 days for full-time vessels, 81 days for part-time vessels, and 17 days for occasional vessels. Amendment 4 furthermore established a schedule to reduce by 2000 the annual DAS allocations and fishing mortality. Overfishing was then defined to occur whenever fishing mortality exceeded 0.97. Amendment 4 also established the fishing year, when vessels receive new DAS allocations, as March 1 through February 28/29, and established the annual framework adjustment procedure.

Since 1994, NMFS has implemented several framework adjustments which, among other actions, reduced the crew limit from 9 to 7 persons and adjusted the annual DAS allocations. Closed Area I, Closed Area II, and the Nantucket Lightship Area were closed for scallop fishing through an action promulgated under the Northeast Multispecies FMP to protect groundfish and reduce groundfish bycatch.

Amendment 7 to the Atlantic Sea Scallop FMP changed the overfishing definition to comply with new mandates of the Sustainable Fisheries Act and extended the DAS reduction schedule through 2008 to achieve a 10-year biomass rebuilding objective. To comply with the new overfishing definition and implement the rebuilding schedule, Amendment 7 revised the DAS schedule beginning March 1, 1999. To allow time for industry adjustment to the new regulations, the initial DAS allocations in 1999 were 120 days for full-time vessels, 48 days for part-time vessels, and 10 days for occasional vessels. According to Amendment 7, the DAS allocations in 2000 would be reduced to 51 days for full-time vessels, 20 days for part-time vessels, and 4 days for occasional vessels and would remain below these levels until 2007 when the FMP met the biomass rebuilding targets. The SEIS for Amendment 7 indicated that the 2000 DAS allocations would have negative impacts on the economic viability of the vessels and the scallop fleet. Amendment 7 also modified the framework adjustment process to allow the Council to consider closing and re-opening areas as well as closing two areas in the Mid-Atlantic to protect small scallops that were prevalent there and promote rebuilding.

The Council is considering development of Amendment 10 to develop an area based management system that would, among other things, close areas with high concentrations of small scallops and open them later when the scallops are bigger. The Council believes that shifting fishing effort in this manner could promote rebuilding, improve yield, and reduce the economic impacts of the low DAS allocations. Another purpose of Amendment 10 would be to change the fishing year to allow timelier use of the adjustment mechanism, taking into account when the results of the annual resource abundance survey and other data become available. Other management measures, including individual fishery quotas and transferability, could be considered during the development of Amendment 10 in place of or in addition to DAS allocations and area based management. More details of the issues and problems to be addressed by Amendment 10 are available in a document from the Council office. See ADDRESSES for details.

Public Meeting Schedule

Tuesday, February 15, 2000, at 7:30 p.m.

Location: Seaport Inn, 110 Middle Street, Fairhaven, MA 02719; telephone (508) 997-1281.

Wednesday, February 16, 2000, at 7:30 p.m.

Location: Holiday Inn, Executive Center, 5655 Greenwich Road, Virginia Beach, VA 23462; telephone (757) 499-4400.

Thursday, February 17, 2000, at 7:30 p.m.

Location: Grand Hotel, 1045 Beach Drive, Cape May, NJ 08204; telephone (609) 884-5611.

Special Accommodations

These meetings are physically accessible to people with disabilities. Requests for sign language interpretation or other auxiliary aids should be directed to Paul J. Howard (see ADDRESSES) at least 5 days prior to the meeting dates.

Authority: 16 U.S.C. 1801 et seq.

Dated: January 31, 2000.
Bruce C. Morehead,
Acting Director, Office of Sustainable Fisheries, National Marine Fisheries Service.

[FR Doc. 00-2573 Filed 2-3-00; 8:45 am]

BILLING CODE 3510-22-F